DEPARTMENT OF HOMELAND SECURITY

Transportation Security Administration

New Agency Information Collection Activity Under OMB Review: Security Program for Hazardous Materials Motor Carriers & Shippers

AGENCY: Transportation Security Administration, DHS.

ACTION: 30-Day Notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on February 16, 2011 (76 FR 9041). TSA will provide a voluntary security-related training course to the Hazardous Materials (Hazmat) motor carrier and shipper industry, to include an evaluation for respondents to complete. TSA will use this data to measure the program's effectiveness at achieving its goal of heightened security awareness levels throughout the hazmat motor carrier and shipper industry.

DATES: Send your comments by July 5, 2011. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Program for Hazardous Materials Motor Carriers & Shippers.

Type of Request: New collection.

OMB Control Number: Not yet assigned.

Form(s): NA.

Affected Public: Hazmat Motor Carriers and Shippers.

Abstract: TSA's Highway & Motor Carrier Division will be producing a voluntary security-related training course for the Hazmat motor carrier and shipper industry. Participants will be able to choose to attend instructor-led training sessions that TSA will conduct at multiple sites in the United States and provide information to the industry through trade associations, conferences, and stakeholder meetings. Hazmat motor carriers and shippers that are registered with the U.S. Department of Transportation (DOT) will automatically receive the training via CD-ROM and DVD. Companies may also complete the training on-line at the TSA Web site, http://www.tsa.gov. After completion of the training program, participants will have the option to complete a course evaluation form to comment on the effectiveness of the training program. The participants who choose to complete the training evaluation form will submit the form via email to a secure Web surveyor tool that is managed at TSA. Participants who attend the classroom training sessions will also be asked to complete an evaluation form on site, which will later be entered into the Web surveyor tool by TSA personnel. TSA will use this data to measure the program's effectiveness at achieving its goal of heightened security awareness levels throughout the hazmat motor carrier and shipper industry.

Number of Respondents: 50,000.

Estimated Annual Burden Hours: An estimated 16,667 hours annually.

Issued in Arlington, Virginia, on May 26, 2011.
Joanna Johnson,
Paperwork Reduction Act Officer, Office of Information Technology.

[FR Doc. 2011-13723 Filed 6-1-11; 8:45 am]

BILLING CODE 9110-05-P